DEPARTMENT OF LABOR

Employment and Training Administration

[TA-W-59,820]

Airfoil Technologies International—Ohio; A Subsidiary Of Airfoil Technologies International, LLC; Mentor, OH; Notice of Revised Determination on Reconsideration

By letter dated August 25, 2006, the United Steel Workers, Local 1-826 (the Union), requested administrative reconsideration regarding the Department's Negative Determination Regarding Eligibility to Apply for Worker Adjustment Assistance, applicable to the workers of the subject firm. The determination for Airfoil Technologies International—Ohio, A Subsidiary of Airfoil Technologies International, LLC, Mentor, Ohio was issued on August 7, 2006. The Notice of determination was published in the Federal Register on August 28, 2006 (71 FR 50947). The denial was issued based on the Department's finding that the subject workers do not produce an article as required by the Trade Act of 1974. Workers are engaged in the remanufacturing of jet engine components as a service to commercial airlines, original equipment manufacturers and the military.

In the request for reconsideration, the Union alleges that the subject workers are engaged in the production of an article and that production shifted from the subject facility to an affiliated facility in Singapore.

During the reconsideration investigation, the subject company provided new information that the subject workers do not service jet engine components only; rather, the subject workers repair and remanufacture fan blades. The new information also revealed that a meaningful portion of the fan blades are produced for sale rather than repair. Workers who repair fan blades are not separately identifiable from workers who remanufacture fan blades.

The subject company also confirmed that the subject facility began closure procedures in 2006 and that fan blade production is shifting to an affiliated facility in Singapore (the production shift will be completed in early 2007).

In accordance with section 246 the Trade Act of 1974 (26 U.S.C. 2813), as amended, the Department of Labor herein presents the results of its investigation regarding certification of eligibility to apply for Alternative Trade Adjustment Assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the facts obtained in the reconsideration investigation, I conclude that there was a shift in production from the workers firm or subdivision to Singapore of articles that are like or directly competitive with those produced by the subject firm or appropriate subdivision. In accordance with the provisions of the Act, I make the following certification:

All workers of Airfoil Technologies International—Ohio, A Subsidiary of Airfoil Technologies International, LLC, Mentor, Ohio who became totally or partially separated from employment on or after July 21, 2005 through two years from the date of certification are eligible to apply for adjustment assistance under section 223 of the Trade Act of 1974 and are also eligible to apply for alternative trade adjustment assistance under section 246 of the Trade Act of 1974.

Signed in Washington, DC, this 10th day of October 2006.
Elliott S. Kushner,
Certifying Officer, Division of Trade Adjustment Assistance.

[FR Doc. E6-17117 Filed 10-13-06; 8:45 am]

BILLING CODE 4510-30-P